DEPARTMENT OF AGRICULTURE

Rural Housing Service

Notice of Funding Availability (NOFA) for the Section 538 Guaranteed Rural Rental Housing Program (GRRHP) for Fiscal Year (FY) 2003

AGENCY: Rural Housing Service (RHS), USDA.

ACTION: Notice.

SUMMARY: This NOFA announces the availability of funds for the section 538 Guaranteed Rural Rental Housing Program for FY 2003. Congress appropriated $99.350 million to the section 538 GRRHP for FY 2003. All applicants that submitted responses to a prior section 538 GRRHP notice published in the Federal Register on December 27, 2002 (67 FR 79038) and the correction to the notice published in the Federal Register on January 28, 2003 (68 FR 4166) will be considered for FY 2003 funding. The commitment of program dollars will be made to applicants of selected responses that have fulfilled the necessary requirements for obligation as described in the notice published in the Federal Register on December 27, 2002 (67 FR 79038).

The Agency will continue to review eligible responses from eligible applicants as described in the notice published in the Federal Register on December 27, 2002 (67 FR 79038) and the correction to the notice published in the Federal Register on January 28, 2003 (68 FR 4166) until all funds are expended. The Agency will issue a notice to inform the public when funds have been exhausted for FY 2003.

Dated: May 12, 2003.
Arthur A. Garcia,
Administrator, Rural Housing Service.

[FR Doc. 03-12246 Filed 5-15-03; 8:45 am]

BILLING CODE 3410-XV-P